DEPARTMENT OF THE TREASURY

Financial Crimes Enforcement Network

31 CFR Part 1010

Financial Crimes Enforcement Network; Inflation Adjustment of Civil Monetary Penalties

Correction

In Rule document 2021-01919, appearing on pages 7348-7349, in the issue of Thursday, January 28, 2021, make the following correction:

§ 1010.821 Penalty adjustment and table [Corrected].

On page 7349, in the table titled “Table 1”, in the fourth column, the entry “[INSERT DATE OF PUBLICATION IN THE FEDERAL REGISTER]” should read “January 28, 2021”.

[FR Doc. C1-2021-01919 Filed 2-1-21; 8:45 am]

BILLING CODE 1301-00-P